DEPARTMENT OF COMMERCE

Patent and Trademark Office

[Docket No: PTO-C-2024-0044]

Nomination of Individuals to the Council for Inclusive Innovation

AGENCY: United States Patent and Trademark Office, Department of Commerce.

ACTION: Notice of request for nominations.

SUMMARY: The Under Secretary of Commerce for Intellectual Property and Director of the United States Patent and Trademark Office (USPTO) requests the nomination of individuals to the Council for Inclusive Innovation (CI² or the Council) within the USPTO. The Secretary of Commerce (Secretary), in coordination with the Under Secretary of Commerce for Intellectual Property and Director of the USPTO (Director), will consider nominations received in response to this notice, as well as from other sources.

DATES: Nominations for immediate consideration must be received by 5 p.m. ET on September 30, 2024. After that date, the USPTO may continue to accept nominations under this notice for one year to fill vacancies that may arise.

ADDRESSES: Nominations should be submitted to: CI2Leadership@uspto.gov (subject line: “Council for Inclusive Innovation Nomination”).

FOR FURTHER INFORMATION CONTACT: Louis J. Boston Jr., Acting Director, Council for Inclusive Innovation, USPTO, Department of Commerce, at 571-272-9585 or CI2Leadership@uspto.gov.

SUPPLEMENTARY INFORMATION: In 2019, the USPTO published a report pursuant to a requirement of the Study of Underrepresented Classes Chasing Engineering and Science Success (SUCCESS) Act of 2018 (Pub. L. 115-273). The report contained a series of findings and recommendations, including a recommendation that the USPTO create a council to help develop a national strategy for promoting and increasing the participation of underrepresented groups as inventor-patentees, entrepreneurs, and innovation leaders. The Council (formerly known as the National Council for Expanding American Innovation) was established, and its work with the USPTO led to the publication of the National Strategy for Inclusive Innovation (Strategy). The Strategy is available at: www.uspto.gov/sites/default/files/documents/NationalStrategy.pdf.

The following sections provide information about the Council, membership on the Council, and the Council's nomination process.

Objectives and Scope of the Council's Activities

The Council's goal is to foster inclusive innovation and to encourage and support innovation from all inventors, entrepreneurs, creators, and others, including those who have traditionally been underrepresented in the innovation ecosystem. An inclusive innovation ecosystem ensures that America's full potential is unleashed, strengthening our economy and providing building blocks for future innovation.

Description of Council Members' Duties

Council members will individually advise the Secretary and the Director on furthering the Strategy to help ensure the advancement of innovation and intellectual property. This Strategy is based on a vision for the United States' leadership in innovation that will lift communities, grow the economy, create quality jobs, and address global challenges. This vision will be achieved by increasing participation in science, technology, engineering, and mathematics (STEM) and innovation, starting with our youth, and will unleash every American's ability to fully take part in the innovation economy.

Council members will also individually provide information and feedback on how the USPTO can work across government and with the private and academic sectors to promote more innovation for all—especially in key technology areas—and to bring more innovation to impact and adoption. Council members will provide their individual viewpoints concerning Council activities, and no consensus advice is sought.

Additional duties of the Council members include:

1. Attending all Council meetings, to the extent possible, including virtual attendance if necessary;

2. Providing individual feedback and information on furthering the Strategy and fostering the involvement of all inventor-patentees, entrepreneurs, and innovation leaders, including those who are underrepresented or lack access to the ecosystem, and on developing innovation in key technology areas;

3. Participating in their individual capacities, as necessary, or at the request of the Chair or Vice Chair, in public roundtable discussions convened by the USPTO, to gather public stakeholder comments and suggestions;

4. Individually assisting the USPTO in promoting national awareness of STEM fields and fostering opportunities for all, including underrepresented groups in these professions and as inventor-patentees, entrepreneurs, and innovation leaders;

5. Individually providing information to the Council on issues and developments that affect the inclusion of all in innovation, including underrepresented groups as inventor-patentees, entrepreneurs, and innovation leaders;

6. Individually identifying designees to serve on the Council Working Group; and

7. Communicating regularly, on an individual basis, with their designees to the Council Working Group to drive progress on action items.

More information about the Council is available at: www.uspto.gov/initiatives/equity/ci2.

Council Membership

The Council consists of up to 35 members, including the Chair and Vice Chair. The Secretary serves as Chair, and the Director serves as Vice Chair. Council members are comprised of representatives from (1) private industry, (2) nonprofit organizations, (3) academia, and (4) various Federal Government agencies and departments. The Chair may designate additional Council members who are heads of other Federal agencies to serve as Co-Vice Chairs. Council members will serve in a representative capacity, and members who are not already Federal employees will not be considered employees of the Federal Government for purposes of their participation on the Council.

The Council also includes a Council Working Group consisting of USPTO-approved designees of the Council members as well as additional members selected by the Vice Chair. Council Working Group members will provide individual input, and no consensus advice will be sought.

Council members generally will serve staggered three-year terms, except that any member appointed to fill a vacancy for an unexpired term will be appointed for the remainder of the predecessor's term. A member who serves less than half of the predecessor's term will serve an interim appointment. A member may serve up to 180 days after the expiration of that member's term if a successor has not been appointed. After 180 days, the member's term will be vacant until a successor is appointed. Council members may be reappointed for a second consecutive three-year term. Members who serve an interim appointment remain eligible to serve two consecutive three-year terms.

The Chair appoints members to the Council in consultation with the Vice Chair, consistent with Department of Commerce policy.

Meetings of the Council will be held at the call of the Chair. The location of Council meetings, including the decision to hold a virtual meeting, will be set by, and is at the discretion of, the Chair. The Council is expected to meet four times per year, but may meet more or less frequently, as determined by the Chair. The Council may participate in public roundtable discussions, convened by the USPTO, to gather information from stakeholders and the public. Council members who participate in the public roundtable discussions will do so in their individual capacities.

The USPTO will provide support services for the Council, including administrative support and meeting space.

Compensation for Members

Members of the Council serve without compensation.

Solicitation of Nominations

The Chair, in consultation with the Vice Chair, is seeking to fill one or more member positions. The Chair, in consultation with the Vice Chair, will consider nominations of all qualified individuals to ensure that the Council includes the areas of experience noted above. Individuals may nominate themselves or other individuals. Professional associations and organizations may also nominate one or more qualified persons for Council membership. Nominations shall state that the nominee is willing to serve as a Council member and carry out the duties outlined above. All nominations should include the following information:

1. A letter of nomination stating the name, affiliation, and contact information of the nominee and the nominee's area(s) of interest and/or experience; and

2. The name of the nominator and the mailing address, email address, and daytime telephone number at which the nominator can be contacted.

All nomination information should be provided in a single email submission (see ADDRESSES above).

The Council aims to have a balanced representation among its members, considering such factors as geography, technical expertise, community involvement, and knowledge of programs and/or activities related to the Council. Individuals will be selected based on their interest and/or experience in or representation of specific areas as needed by the Council. The diverse membership of the Council assures perspectives reflecting the breadth of the Council's responsibilities.

Privacy Act Statement

Authority: The collection of information concerning nominations to the Council for Inclusive Innovation is authorized under 35 U.S.C. 2(a)(2) and 2(b)(11) and in accordance with the Privacy Act of 1974, as amended, (Privacy Act) 5 U.S.C. 552a.

Purpose: The collection of names, contact information, and professional information is required in order for the Chair, in consultation with the and Vice Chair, to appoint members to the Council.

Routine Uses: The USPTO will use the nomination information for the purpose set forth above. The Privacy Act of 1974 authorizes disclosure of the information collected to Department and USPTO staff for work-related purposes and for other purposes only as set forth in the Privacy Act and for routine uses published in the Privacy Act System of Records Notice COMMERCE/DEPT-11, Candidates for Membership, Members, and Former Members of Department of Commerce Advisory Committees, available at https://www.commerce.gov/opog/privacy/SORN/SORN-DEPT-11.

Disclosure: Furnishing the nomination information is voluntary; however, if the information is not provided, the individual may not be considered for appointment to the Council.

Katherine K. Vidal,
Under Secretary of Commerce for Intellectual Property and Director of the United States Patent and Trademark Office.

[FR Doc. 2024-19064 Filed 8-23-24; 8:45 am]

BILLING CODE 3510-16-P